ENVIRONMENTAL PROTECTION AGENCY

[EPA-HQ-OA-2021-0671; FRL-9122-01-OA]

National Environmental Justice Advisory Council; Notification for a Virtual Public Meeting

AGENCY: Environmental Protection Agency (EPA).

ACTION: Notification for a public meeting.

SUMMARY: Pursuant to the Federal Advisory Committee Act (FACA), the U.S. Environmental Protection Agency (EPA) hereby provides notice that the National Environmental Justice Advisory Council (NEJAC) will meet on the date and time described below. The meeting is open to the public. Members of the public are encouraged to provide comments relevant to the specific issues being considered by the NEJAC. For additional information about registering to attend the meeting or to provide public comment, please see “REGISTRATION” under SUPPLEMENTARY INFORMATION. Pre-registration is required.

DATES: The NEJAC will hold a virtual public meeting on Wednesday, November 10, 2021, from approximately 1:00 p.m. to 5:00 p.m., Eastern Time. A public comment period relevant to the specific issues will be considered by the NEJAC during the meeting (see SUPPLEMENTARY INFORMATION). Members of the public who wish to participate during the public comment period must pre-register by 11:59 p.m., Eastern Time, one (1) week prior to the start of the meeting date.

FOR FURTHER INFORMATION CONTACT: Fred Jenkins, NEJAC Designated Federal Officer, U.S. EPA; please send via email to: nejac@epa.gov or contact Fred Jenkins at (703) 308-7049. Additional information about the NEJAC is available at https://www.epa.gov/environmentaljustice/national-environmental-justice-advisory-council.

SUPPLEMENTARY INFORMATION: The meeting discussion will focus on providing information and receiving NEJAC feedback regarding the environmental justice and civil rights compliance elements of the draft of EPA's next multiyear strategic plan as well as other aligned efforts and plans of the agency. The meeting agenda and other meeting support materials including the public comments will be posted in the public docket (Docket no. EPA-HQ-OA-2021-0671) as they become available. The Charter of the NEJAC states that its purpose is to provide independent advice and recommendations to the EPA Administrator about broad, crosscutting issues related to environmental justice. The NEJAC's efforts will include evaluation of a broad range of strategic, scientific, technological, regulatory, community engagement, and economic issues related to environmental justice.

Registration: Individual registration is required for the virtual public meeting. Information on how to register is located https://www.epa.gov/environmentaljustice/national-environmental-justice-advisory-council-meetings. Registration for the meetings is available through the scheduled end time of the meeting day. Registration to speak during the public comment will close at 11:59 p.m., Eastern Time, one (1) week prior to meeting date. When registering, please provide your name, organization, city and state, and email address for follow up. Please also indicate whether you would like to provide public comment during the meeting, and whether you are submitting written comments at time of registration.

A. Public Comment

Every effort will be made to hear from as many registered public commenters during the time specified on the agenda. Individuals or groups making remarks during the oral public comment period will be limited to three (3) minutes. To accommodate the number of people who want to address the NEJAC, only one representative from each community, organization, or group will be allowed to speak. Submitting written comments for the record are strongly encouraged. Submit your written comments, identified by Docket ID No. EPA-HQ-OA-2021-0671 at http://www.regulations.gov. Follow the online instructions for submitting comments. Once submitted, comments cannot be edited or withdrawn. EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (e.g., on the web, cloud, or other file sharing system). For additional submission methods, the full EPA public comment policy, information about CBI or multimedia submissions, and general guidance on making effective comments, please visit https://www.epa.gov/dockets/commenting-epa-dockets. The Agency's preferred method for public comment is through the docket system. Written comments can also be submitted by using the webform at https://www.epa.gov/environmentaljustice/forms/national-environmental-justice-advisory-council-nejac-public-comment. To submit comments with additional materials, please send via email to: nejac@epa.gov. Submitted written public comments to nejac@epa.gov will be transferred into the public docket for this meeting by EPA staff. Written comments can be submitted up to two (2) weeks after the meeting date.

B. Information About Services for Individuals With Disabilities or Requiring English Language Translation Assistance

For information about access or services for individuals requiring assistance, please contact Fred Jenkins, via email at: nejac@epa.gov or contact at (703) 308-7049. To request special accommodations for a disability or other assistance, please submit your request at least seven (7) working days prior to the meeting, to give EPA sufficient time to process your request. All requests should be sent to the email, listed in the FOR FURTHER INFORMATION CONTACT section.

Matthew Tejada,
Director for the Office of Environmental Justice.

[FR Doc. 2021-22600 Filed 10-15-21; 8:45 am]

BILLING CODE 6560-50-P